CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the AmeriCorps Alumni Profile Cards (OMB Control Number 3045-0048). The collections was granted a 3 year approval until October 31, 2007, by OMB. The Corporation is now seeking approval to continue this collection for 3 more years.

Copies of the information collection requests can be obtained by contacting the office listed in the address section of this notice.

DATES: Written comments must be submitted to the individual and office listed in the ADDRESSES section by July 30, 2007.

ADDRESSES: You may submit comments, identified by the title of the information collection activity, by any of the following methods:

(1) By mail sent to: Corporation for National and Community Service; Attention: David Premo, Corporation Relations Associate; Office of Corporate Relations, Room 10302E; 1201 New York Avenue, NW., Washington, DC, 20525.

(2) By hand delivery or by courier to the Corporation's mailroom at Room 8102C at the mail address given in paragraph (1) above, between 9 a.m. and 4 p.m. Monday through Friday, except Federal holidays.

(3) By fax to: (202) 606-3460, Attention: David Premo, Corporate Relations Associate, Office of Corporate Relations.

(4) Electronically through the Corporation's e-mail address system: dpremo@cns.gov.

FOR FURTHER INFORMATION CONTACT: David Premo, (202) 606-6717, or by e-mail at dpremo@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation sends out AmeriCorps Alumni Profile Cards to former AmeriCorps and VISTA members' home addresses requesting that they complete the card and return it to the Corporation. The purpose of the card is to enhance communications between the Corporation and former AmeriCorps members to provide them with information on Corporation activities, and to seek their assistance in volunteer recruitment activities.

Current Action

The Corporation is soliciting public comments so it can obtain renewed approval from OMB for a three year time period of the distribution and collection of AmeriCorps Alumni Profile Cards. The goal is to continue to help the Corporation to more accurately and effectively gear communication to former members and to provide additional resources to these former members. Submission is entirely voluntary.

Type of Review: Renewal.

Agency: Corporation for National and Community Service.

Title: AmeriCorps Alumni Profile Card.

OMB Number: 3045-0048.

Agency Number: None.

Affected Public: Individuals.

Total Respondents: 12,000.

Frequency: Continuous.

Average Time Per Response: 4 minutes.

Estimated Total Burden Hours: 800 hours.

Total Burden Cost (capital/startup): None.

Total Burden Cost (operating/maintenance): None.

Comments submitted in response to this notice will be summarized and/or included in the request for Office of Management and Budget approval of the information collection request; they will also become a matter of public record.

Dated: May 22, 2007.
Jonathan Williams,
Director, Corporate Relations.

[FR Doc. E7-10272 Filed 5-29-07; 8:45 am]

BILLING CODE 6050-$$-P